FEDERAL HOUSING FINANCE BOARD

[No. 2001-N-5]

Prices for Federal Home Loan Bank Services

AGENCY: Federal Housing Finance Board.

ACTION: Notice of prices for Federal Home Loan Bank Services.

SUMMARY: The Federal Housing Finance Board (Board) is publishing the prices charged by the Federal Home Loan Banks (Banks) for processing and settlement of items (negotiable order of withdrawal or NOW), and demand deposit accounting (DDA) and other services offered to members and other eligible institutions.

EFFECTIVE DATE: March 26, 2001.

FOR FURTHER INFORMATION CONTACT: Gwen R. Grogan, Associate Director, Office of Supervision (202) 408-2892; or Edwin J. Avila, Financial Analyst, (202) 408-2871; Federal Housing Finance Board, 1777 F Street, NW., Washington, DC 20006.

SUPPLEMENTARY INFORMATION: Section 11(e) of the Federal Home Loan Bank Act (Bank Act) (12 U.S.C. 1431(e)) authorizes the Banks (1) to accept demand deposits from member institutions, (2) to be drawees of payment instruments, (3) to engage in collection and settlement of payment instruments drawn on or issued by members and other eligible institutions, and (4) to engage in such incidental activities as are necessary to the exercise of such authority. Section 11(e)(2)(B) of the Bank Act (12 U.S.C. § 1431(e)(2)(B)) requires the Banks to make charges for services authorized in that section, which charges are to be determined and regulated by the Board.

Section 975.6(c) of the Board's regulations (12 CFR § 975.6(c)) provides for the annual publication in the Federal Register of all prices for Bank services. The following fee schedules are for the Banks which offer item processing services to their members and other qualified financial institutions. Most of the remaining Banks provide other Correspondence Services which may include securities safekeeping, disbursements, coin and currency, settlement, electronic funds transfer, etc. However, these Banks do not provide services related to processing of items drawn against or deposited into third party accounts held by their members or other qualified financial institutions.

District 1.—Federal Home Loan Bank of Boston (2001 NOW/DDA Services) (Services not provided)

District 2.—Federal Home Loan Bank of New York (2001 NOW/DDA Services) (Does not provide item processing services for third party accounts)

District 3.—Federal Home Loan Bank of Pittsburgh (2001 NOW/DDA Services)

DEPOSIT PROCESSING SERVICE (DPS) EFFECTIVE 1/1/2001
DPS Deposit Tickets | $0.6750 per deposit
Printing of Deposit Tickets | Pass-through
Deposit Items Processed | Pricing varies—tiered by monthly volume
For volumes of:
1-25,000 | $0.0422 per item (transit)
25,001-58,500 | 0.0417 per item (transit)
58,501-91,500 | 0.0412 per item (transit)
91,501-125,000 | 0.0407 per item (transit)
125,001-158,500 | 0.0392 per item (transit)
158,501-191,500 | 0.0372 per item (transit)
191,501-over | 0.0342 per item (transit)
Deposit Items Encoded (West) | Pricing varies—tiered by monthly volume
For volumes of:
1-25,000 | 0.0413 per item
25,001-58,500 | 0.0409 per item
58,501-91,500 | 0.0405 per item
91,501-125,000 | 0.0401 per item
125,001-158,500 | 0.0388 per item
158,501-191,500 | 0.0383 per item
191,501-over | 0.0378 per item
Deposit Items Encoded (East) | Pricing varies—tiered by monthly volume
For volumes of:
1-25,000 | 0.0367 per item
25,001-58,500 | 0.0362 per item
58,501-91,500 | 0.0357 per item
91,501-125,000 | 0.0352 per item
125,001-158,500 | 0.0337 per item
158,501-191,500 | 0.0327 per item
191,501-over | 0.0321 per item
Deposit Items Returned | 18.5000 per item
Deposit Items Photocopied | 5.0000 per photocopy
DPS Photocopies—Subpoena | 21.0000 per hour of processing time
plus | 0.3000 per photocopy
Deposit Items Rejected (applicable to pre-encoded deposits only) | 0.2500 per rejected item
Canadian Item Processing | 5.5000 per item
All Foreign Collection Charges | Pass-through (Includes Foreign Collection Fees, Bought Foreign Collection Fees, Foreign Bank Processing Charges, and Foreign Check Courier Charges)
Adjustments on DPS Deposits (applicable to pre-encoded deposits only) | 3.00 per adjustment
Foreign Return Check Fee | 35.0000 per item
DPS Transportation (West) | 10.5000 per pickup
DPS Transportation (East) | 10.5000 per pickup
Return Check Courier Service | 150.0000 per month
DEPOSITORY ACCOUNT SERVICES
On—Us Returns Deposited:
Qualified Returns | $1.2500 per item
Raw Returns | 4.7500 per item
Mail Deposits | 6.0000 per deposit
Bond Collection:
Bearer | 42.0000 per bond
Registered | 52.0000 per bond
Bond Coupon Collection | 8.5000 per envelope
Bond Coupon Returns | 33.0000 per coupon
Deposit Transfer Vouchers | 6.0000 per item
ELECTRONIC FUNDS TRANSFERS
Incoming Wire Transfers | $6.3000 per transfer
Outgoing Wire Transfers (LINK) | 7.0000 per transfer
Outgoing Wire Transfers (Manual) | 11.0000 per transfer
Late Outgoing Wire Surcharge | 10.0000 per transfer
Fax of Wire Transfer Advice | 3.9500 per transfer
Internal Book Transfers (LINK) | No Charge
Internal Book Transfers (Manual) | 1.2500 per transfer
Foreign Wire Surcharge | 35.0000 per transfer
Foreign Wire Tracers | 5.000 per transfer
Service Message Requests | 2.000 per transfer
Mortgage Participation Service Fee | 3.2000 per transfer
Expected Wires Not Received | Penalty Assessed ¹*
AUTOMATED CLEARING HOUSE
ACH Transaction Settlement (CR/DR) | $0.3100 per transaction
ACH Cleared Through FHLB (CR/DR) | 0.4000 per transaction
ACH Origination Items (CR/DR) | 0.2200 per item
ACH Origination Record Set-Up | 1.7500 per record
ACH Origination Items Returned | 6.0000 per returned item
ACH Returns/NOCs—Facsimile | 2.7500 per transaction
ACH Returns/NOCs—Telephone | 4.5000 per transaction
ACH/FRB Priced Service Charges | 0.3100 per transaction
FEDERAL RESERVE SETTLEMENT
FRB Statement Transaction (CR/DR) | $0.6200 per transaction
Reserve Requirement Pass-Thru | 33.0000 per month (active)
Correspondent Transaction (DR) | 0.6200 per transaction
Direct Send Settlement | 155.0000 per month
FRB Inclearing Settlement | 155.0000 per month
FRB Coin & Currency Settlement | 60.0000 per month
DEMAND DEPOSIT SERVICES
Clearing Items Processed | $0.1650 per item
Clearing Items Fine Sorted (for return with Bank statements) | 0.0900 per item
Reconcilement Copies—Manual | 0.3500 per copy
Reconcilement Copies—MagTape | 0.0600 per copy
Reconcilement MagTape Processing | Pass-through
Reconcilement Copies—Voided | 0.1000 per copy
Check Photocopies—Mail | 4.2500 per photocopy
Check Photocopies—Telephone/Fax | 5.0000 per photocopy
Check Photocopies—Subpoena | 1.0000 per photocopy
Stop Payment Orders | 19.0000 per item
Stop Payment Cancellations | 9.5000 per cancelled item
FRB Return Items Processed | 0.6000 per item
FRB Return Items Qualified | 0.4000 per item
FRB Return Items Over $2,500 | 6.2500 per item
Collections & Forgeries | 19.0000 per item
Check Imprinting | Pass-through
Request for Fax/Photocopy | 5.2500 per document/page
CHECK PROCESSING (INCLEARING)
Checks Processed | Pricing varies—tiered by monthly volume
for volumes of:
1—25,000 | 0.0479 per item
25,001—58,500 | 0.0454 per item
58,501—91,500 | 0.0427 per item
91,501—125,000 | 0.0401 per item
125,001—158,500 | 0.0372 per item
158,501—191,500 | 0.0346 per item
191,501—350,000 | 0.0308 per item
350,001—500,000 | 0.0282 per item
500,001—over | 0.0257 per item
FULL BACKROOM SERVICE (ITEM PROCESSING CHARGES)
Non-Truncated Checks | Pricing varies—tiered by monthly volume
for volumes of:
1—25,000 | 0.0630 per item
25,001—58,500 | 0.0620 per item
58,501—91,500 | 0.0600 per item
91,501—125,000 | 0.0585 per item
125,001—158,500 | 0.0570 per item
158,501—191,500 | 0.0555 per item
191,501—350,000 | 0.0535 per item
350,001—500,000 | 0.0495 per item
500,001—over | 0.0465 per item
Truncated Checks | Pricing varies—tiered by monthly volume
for volumes of:
1—25,000 | 0.0530 per item
25,001—58,500 | 0.0520 per item
58,501—91,500 | 0.0500 per item
91,501—125,000 | 0.0485 per item
125,001—158,500 | 0.0470 per item
158,501—191,500 | 0.0455 per item
191,501—350,000 | 0.0435 per item
350,001—500,000 | 0.0395 per item
500,001—over | 0.0365 per item
MODIFIED BACKROOM SERVICE (ITEM PROCESSING CHARGES)
Non-Truncated Checks | Pricing varies—tiered by monthly volume
for volumes of:
1—25,000 | 0.0530 per item
25,001—58,500 | 0.0520 per item
58,501—91,500 | 0.0500 per item
91,501—125,000 | 0.0485 per item
125,001—158,500 | 0.0470 per item
158,501-191,500 | 0.0455 per item
191,501-350,000 | 0.0435 per item
350,001-500,000 | 0.0395 per item
500,001-over | 0.0365 per item
Truncated Checks | Pricing varies—tiered by monthly volume
for volumes of:
1-25,000 | 0.0430 per item
25,001-58,500 | 0.0420 per item
58,501-91,500 | 0.0400 per item
91,501-125,000 | 0.0385 per item
125,001-158,500 | 0.0370 per item
158,501-191,500 | 0.0355 per item
191,501-350,000 | 0.0335 per item
350,001-500,000 | 0.0295 per item
500,001-over | 0.0265 per item
IMAGE SERVICES—PROOF OF DEPOSIT (POD) SERVICE
Pricing for each of these premium services is customer-specific, based upon individual service requirements; please call your Relationship Officer at (800) 288-3400 for further information.
CHECK PROCESSING (ASSOCIATED SERVICES)
Unidentified Items Processed | 2.0500 per item
Over-The-Counter Items | 0.1975 per item
OTC Item Transportation | 12.5000 per month
Special Cycle Sorting | 0.0250 per item
Mid-Cycle Statement (Purged) | 0.6000 per item (Min $3.00)
Mid-Cycle Stmt. (Non-Purged) | 3.0000 per statement
Statement Printing | 0.0300 per page
Statement Processing:
Statements using Generic Envelopes | 0.0700 per envelope
Statements using Custom Envelopes | 0.1125 per envelope
Statements using Large Envelopes | 0.7000 per envelope
Envelope Destruction Fee | 0.0300 per envelope
Additional Stuffer Processing (one stuffer per statement free—applicable to all additional stuffers) | 0.0300 per stuffer
Selective Stuffer Processing | 0.1150 per statement
Daily Report Postage | Pass-through
Statement Postage | Pass-through
Standard Return Calls | 1.5500 per item
Automated Return Calls | 0.3000 per item
Return Calls via Link | 0.8500 per item
Late Return Calls | 7.0000 per item
Illegible BOFD Surcharge | 5.2500 per item
Return Call Cancellations | 6.0000 per item
FRB Return Items Processed | 0.6000 per item
FRB Return Items Qualified | 0.4000 per item
FRB Return Items Over $2,500 | 6.2500 per item
Suspect Item Processing | 6.0000 per suspect item
Check Photocopies—Mail | 4.2500 per photocopy
Check Photocopies—Telephone/Fax | 5.0000 per photocopy
Check Photocopies—Subpoena | 1.0000 per item
Signature Verification Copies | 0.9500 per copy
Check Retrieval | 1.9000 per item
MICRSort Option (Fixed Fee) | 29.0000 per month
MICRSort Option (per item) | 0.0340 per item
Collections & Forgeries | 19.0000 per item
MCPJ Microfiche Service | 0.0025 per item (Min. $25.00, Max. $150.00)
Transportation | Pass-through
COIN & CURRENCY SERVICE: WESTERN SERVICE AREA
Cash Orders | 2.5500 per order, plus:
Currency Orders | 0.3500 per $1,000 ²
Coin Orders | 2.9500 per box
Currency Deposits | 1.5000 per $1,000 ²
Coin Deposits | 2.0000 per standard bag
Coin Deposits (Non-Standard) | 3.0000 per non-standard bag
Coin Deposits (Unsorted) | 9.0000 per mixed bag
Food Stamp Deposits | 2.0000 per $1,000 ²
Late Order Surcharge | 12.5000 per order
Emergency Order Processing Fee | 25.0000 per order
Large Cash Shipment Surcharge | 6.0000 per shipment ³
Coin Shipment Surcharge | 0.3000 per excess bag ⁴
C&C Transportation (Zone W1) | 20.5000 per stop
C&C Transportation (Zone W2) | 33.5000 per stop
C&C Transportation (Zone W3) | 47.0000 per stop
C&C Transportation (Zone W4) | Negotiable ⁵
COIN & CURRENCY SERVICE: EASTERN SERVICE AREA
Cash Orders | 2.5500 per order, plus:
Currency Orders | 0.3500 per $1,000 ²
Coin Orders | 3.1000 per box
Currency Deposits | 1.5000 per $1,000 ²
Coin Deposits | 2.0000 per standard bag
Coin Deposits (Non-Standard) | 3.0000 per non-standard bag
Coin Deposits (Unsorted) | 9.0000 per mixed bag
Food Stamp Deposits | 2.0000 per $1,000 ²
Late Order Surcharge | 12.5000 per order
Emergency Order Processing Fee | 25.0000 per order
Large Cash Shipment Surcharge | 6.0000 per shipment ³
Coin Shipment Surcharge | 0.3000 per excess bag ⁴
C&C Transportation (Zone E1) | 30.0000 per stop
C&C Transportation (Zone E2) | 42.0000 per stop
C&C Transportation (Zone E3) | 65.0000 per stop
C&C Transportation (Zone E4) | Negotiable ⁴
ACCOUNT MAINTENANCE
Demand Deposit Accounts | 23.0000 per month, per account
Cut-Off Statements | 15.0000 per statement
Telephone Inquiry | 2.5000 per telephone call
Paper Advice of Transactions(DTS) | 37.5000 per account, per month
Daily Transaction Data via LINK | No Charge
MONTHLY MINIMUM CHARGES
The Bank reserves the right to impose a monthly minimum charge for its services. The standard minimum will be $2,500 per month, applied against Check Processing, Deposit Processing, and/or Proof of Deposit Services. Pass-through items, such as postage and transportation, do not apply.
ACCOUNT OVERDRAFT PENALTY
Greater of $75.00 per day and the daily interest on the amount of the overdraft (Rate used for calculation equal to the highest posted advance rate plus 3.0%)
REQUESTS FOR PROGRAMMING CHANGES
Programming support for new services, enhancements to existing service levels, or servicer conversions requiring at least one hour of programmer time and/or equivalent FHLB expenses will be charged at a rate of $100.00 per hour, plus expenses.
ATTENTION: CUSTOMERS RECEIVING TRANSPORTATION CHANGES UNDER ANY SERVICE
Rates and charges relative to transportation vary depending on the location of the office(s) serviced. Details regarding the pricing for the transportation to/from specific institutions or individual locations will be provided upon their subscription to that service.
Surcharges may be applicable and will be applied to the customer as effective and without prior notice.
¹ Standard penalty is equivalent to the amount of the wire(s) times the daily IOD rate, divided by 360. If the wire not received causes the Bank to suffer any penalty, deficiency, or monetary loss, any and all related costs will also be assessed.
² Charges will be applied to each $1,000 ordered or deposited, and to any portion of a shipment not divisible by that standard unit.
³ This surcharge will apply to each cash shipments valued at $250,000 and over.
⁴ A surcharge will apply to each container (box/bag) of coin in an order/delivery after the first 20 containers.
⁵ Reserved for remote locations: delivery charges will be negotiated with the courier service on an individual basis.

District 4.—Federal Home Loan Bank of Atlanta (2001 NOW/DDA Services) (Does not provide item processing services for third party accounts)

District 5.—Federal Home Loan Bank of Cincinnati (2001 NOW/DDA Services) (Does not provide item processing services for third party accounts)

District 6.—Federal Home Loan Bank of Indianapolis (2001 NOW/DDA Services)

Fee Schedules

Checking Account Processing—Effective February 1, 2000

I. Checking Account Service Transaction Charges
Monthly volume | Safekeeping: Per item | Turnaround (daily or cycled): Per item | Complete: Per item | Full service image ¹: Per item | Full service image ¹: Per statement | Limited service image: Per item | Limited service image: Per statement
0-5,000 | $.054 | $.0675 | $.0875 | $.06 | $.40 | $.02 | $.40
5-10,000 | .046 | .0625 | .0855 | .06 | .40 | .02 | .40
10-15,000 | .045 | .0585 | .0835 | .06 | .40 | .02 | .40
15-25,000 | .040 | .0515 | .0825 | .06 | .40 | .02 | .40
25-50,000 | .039 | .0475 | .0805 | .06 | .40 | .02 | .40
50-75,000 | .035 | .0445 | .0765 | .06 | .40 | .02 | .40
75-100,000 | .032 | .0415 | .0755 | .06 | .40 | .02 | .40
100-and up | .030 | .0385 | .0745 | .06 | .40 | .02 | .40
Minimum processing fee of 40.00 per month will apply for total NOW services. Also included in the above fees—at no additional cost are Federal Reserve fees, incoming courier fees, software changes, disaster recovery, envelope discount and inventory.
¹ Image Monthly Maintenance Fee of 500.00 for 0-32% of accounts; 300.00 for 33-49% of accounts; and 200.00 for 50%+ will be assessed for Image Statements.

II. Ancillary Service Fees
Large Dollar Signature Verification | 0.75
Over-the-counters and Microfilm | 0.45
Return Items | 2.40
Photocopies ¹ and Facsimiles | 2.50
Certified Checks | 1.00
Invalid Accounts | 0.65
Late Returns | 0.50
Invalid Returns | 0.50
No MICR/OTC | 0.50
Settlement Only (per month) | 100.00
+Journal Entries (each) | 3.00
Encoding Errors | 2.75
Fine Sort Numeric Sequence | 0.02
High Dollar Return Notification | N/C
Debit Entries | N/C
Credit Entries | N/C
Standard Stmt. Stuffers (up to 2) ² | N/C
Statement Stuffing Savings (Non DDA Accounts) | 0.20
¹ Photocopy request of 50 or more are charged at an hourly rate of 15.00.
² Each additional (over 2) will be charged at .02 per statement.

b. Demand Deposits Accounts/ACH

Item Processing Service Fees—Cash Management Service
Demand deposit clearings will have the following service charges:
Stop payments | 6.00 per stop
Photocopies | 2.50 per copy
Collection/Return/Exception | 5.00
Daily Statement | 2.00
Maintenance | 30.00 per month
Debit Entries | N/C
Credit Entries | N/C
ACH Fees:
Tape transmission | $ 8.50 per tape
or originations | .045 per item
NACHA, MPX | Actual Federal Reserve charges
ACH entries clearing through our R&T number | .25 per item
Settlement only | 65.00 per month
ACH returns/NOC | 2.50 per item

Collected balances will earn interest at CMS daily-posted rate.

Prices effective April 1, 1993.

c. Deposit Services

Federal Home Loan Bank of Indianapolis
Pre-encoded Items:
City | $0.045 per item
RCPC | .055 per item
Other Districts | .09 per item
Unencoded | .15 per item
Food Stamp | .14 per item
Photocopies* | 2.50 per copy
Adjustments on pre-encoded work | 2.75 per error
E Z Clear | .14 per item
Coupons | 8.25 per envelope
Collections | 6.00 per item
Cash Letter | 2.00 per cash letter
Deposit Adjustments | .30 per adjustment
Debit Entries | N/C
Credit Entries | N/C
Microfilming | N/C
Mortgage Remittance (Basic Service) | .35
Settlement only | 100.00 per month
+Journal Entries | 3.00 each
Courier:
Indianapolis (city): | 8.25 per location, per day, per pickup
Outside Indianapolis: | prices vary per location
N/C—No Charge.

District 7.—Federal Home Loan Bank of Chicago (2001 NOW/DDA Services) (Does not provide item processing services for third party accounts)

District 8.—Federal Home Loan Bank of Des Moines (2001 NOW/DDA Services) (Does not provide item processing services for third party accounts)

District 9.—Federal Home Loan Bank of Dallas (2001 NOW/DDA Services) (Does not provide item processing services for third party accounts)

District 10.—Federal Home Loan Bank of Topeka (2001 NOW/DDA Services) (Does not provide item processing services for third party accounts)

District 11.—Federal Home Loan Bank of San Francisco (2001 NOW/DDA services) (Does not provide item processing services for third party accounts)

District 12.—Federal Home Loan Bank of Seattle (2001 NOW/DDA Services) (Does not provide item processing services for third party accounts)

Dated: March 20, 2001.
By the Federal Housing Finance Board
James L. Bothwell,
Managing Director.

[FR Doc. 01-7336 Filed 3-23-01; 8:45 am]

BILLING CODE 6725-01-P